DEPARTMENT OF HEALTH AND HUMAN SERVICES

Centers for Disease Control and Prevention

Disease, Disability, and Injury Prevention and Control Special Emphasis Panel (SEP): Health Promotion and Diabetes Prevention Projects for American Indian/Alaska Native Communities: Adaptations of Practical Community Environmental Indicators, Program Announcement Number AA029

In accordance with Section 10(a)(2) of the Federal Advisory Committee Act (Pub. L. 92-463), the Centers for Disease Control and Prevention (CDC) announces the following meeting:

Name: Disease, Disability, and Injury Prevention and Control Special Emphasis Panel (SEP): Health Promotion and Diabetes Prevention Projects for American Indian/Alaska Native Communities: Adaptations of Practical Community Environmental Indicators, Program Announcement Number AA029.

Times and Dates: 9 a.m.-5 p.m., August 2, 2005 (Closed); 9 a.m.-5 p.m., August 3, 2005 (Closed); 9 a.m.-4 p.m., August 4, 2005 (Closed).

Place: Club House Inn and Suites, 1315 Menaul Boulevard NE., Albuquerque, NM 87107, Telephone Number (505) 345-0010.

Status: The meeting will be closed to the public in accordance with provisions set forth in Section 552b(c) (4) and (6), Title 5 U.S.C., and the Determination of the Director, Management Analysis and Services Office, CDC, pursuant to Public Law 92-463.

Matters To Be Discussed: The meeting will include the review, discussion, and evaluation of applications received in response to: Health Promotion and Diabetes Prevention Projects for American Indian/Alaska Native Communities: Adaptations of Practical Community Environmental Indicators, Program Announcement Number AA029.

For Further Information Contact: Maria E. Burns, M.P.A., Senior Program Management Officer, National Center for Chronic Disease Prevention and Health Promotion, CDC, 1720 Louisiana Boulevard, NE., Albuquerque, NM 87110, Telephone (505) 232-9907.

The Director, Management Analysis and Services Office, has been delegated the authority to sign Federal Register notices pertaining to announcements of meetings and other committee management activities, for both CDC and the Agency for Toxic Substances and Disease Registry.

Dated: June 20, 2005.
Alvin Hall,
Director, Management Analysis and Services Office, Centers for Disease Control and Prevention.

[FR Doc. 05-12499 Filed 6-23-05; 8:45 am]

BILLING CODE 4163-18-P